POSTAL SERVICE

Sunshine Act Meetings

TIME AND DATE: Thursday, November 13, 2025, at 9:00 a.m.; Friday, November 14, 2025, at 9:00 a.m.

PLACE: Washington, DC, at U.S. Postal Service Headquarters, 475 L'Enfant Plaza SW, in the Benjamin Franklin Room.

STATUS: Thursday, November 13, 2025, at 9:00 a.m.—Closed. Friday, November 14, 2025, at 9:00 a.m.—Open.

MATTERS TO BE CONSIDERED:

Meeting of the Board of Governors

Thursday, November 13, 2025, at 9:00 a.m. (Closed)

1. Strategic Matters.

2. Financial and Operational Matters.

3. Executive Session.

4. Compensation and Personnel Matters.

5. Administrative Items.

Friday, November 14, 2025, at 9:00 a.m. (Open)

1. Remarks of the Chairwoman of the Board of Governors.

2. Remarks of the Postmaster General and CEO.

3. Approval of the Meeting Minutes.

4. Election of the Chairman.

5. Election of the Vice Chairman.

6. Committee Reports.

7. Financial Matters.

a. FY2025 Annual Financial Report.

b. FY2025 10K and Financial Statements.

c. FY2025 Annual Report to Congress.

d. FY2026 Integrated Financial Plan and Liquidity Outlook.

e. Authorization to Borrow Money and Issue Obligations.

f. FY2027 Congressional Reimbursement Request.

8. Annual Service Performance Report.

9. Approval of Tentative Agenda for the February 5, 2026 Meeting.

10. Adjournment.

A public comment period will begin immediately following the adjournment of the open session. During the public comment period, members of the public present at the meeting may comment on any item or subject listed on the open session agenda. Those wishing to speak in person must register in advance. Each registered speaker will have two (2) minutes for comment.

Participants who wish to speak in person during the public comment period must register by Wednesday, November 12, 2025, at 9:00 a.m. ET.

Individuals who submit written comments in advance will have their comments read into the record. Written submissions to be read into the record must also relate to one or more items or subjects listed on the open session agenda.

Written comments must be received by Monday, November 10, 2025. Comments may be emailed or mailed to the Office of the Board of Governors using the following contact information:

Email: BOG-inquiries@usps.gov.

Mail: Office of the Board of Governors, USPS Headquarters, 475 L'Enfant Plaza SW, Washington, DC 20260-0004.

Participation in the public comment period is governed by 39 CFR 232.1(n).

General Counsel Certification: The General Counsel of the United States Postal Service has certified that the November 13 meeting may be closed under the Government in the Sunshine Act, 5 U.S.C. 552b.

CONTACT PERSON FOR MORE INFORMATION: Lucy C. Trout, Secretary of the Board, U.S. Postal Service, 475 L'Enfant Plaza SW, Washington, DC 20260-1000. Telephone: (202) 268-4800.

Lucy C. Trout,
Secretary.

[FR Doc. 2025-19791 Filed 11-3-25; 4:15 pm]

BILLING CODE 7710-12-P